DEPARTMENT OF TRANSPORTATION

Surface Transportation Board

[STB Finance Docket No. 34049]

The Burlington Northern and Santa Fe Railway Company—Trackage Rights Exemption—The Kansas City Southern Railway Company

The Kansas City Southern Railway Company (KCS) has agreed to grant limited overhead trackage rights to The Burlington Northern and Santa Fe Railway Company (BNSF) over KCS's rail line (1) between KCS milepost 220.28 in Tennison, TX, and KCS milepost 201.89 in Wylie, TX, and (2) between KCS Engineering Station HB 43+59′ in Wylie and KCS Engineering Station 1097+80′ in Wylie, a total distance of approximately 21.14 miles.

The transaction is scheduled to be consummated on or after June 5, 2001, the effective date of the exemption.

The purpose of the trackage rights is to allow BNSF to move Norfolk Southern Railway Company haulage trains over the subject trackage to and from KCS's Wylie Yard.

Any employees affected by the subject transaction will be protected by the labor conditions prescribed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34049 must be filed with the Surface Transportation Board, Office of the Secretary, Case Control Unit, 1925 K Street, NW., Washington, DC 20423-0001. In addition, one copy of each pleading must be served on Michael E. Roper, The Burlington Northern and Santa Fe Railway Company, P.O. Box 961039, Fort Worth, TX 76161-0039.

Board decisions and notices are available on our website at www.stb.dot.gov.

Decided: June 4, 2001.
By the Board, David M. Konschnik, Director, Office of Proceedings.
Vernon A. Williams,
Secretary.

[FR Doc. 01-14468 Filed 6-12-01; 8:45 am]

BILLING CODE 4915-00-P